DEPARTMENT OF THE INTERIOR

Fish and Wildlife Service

[FWS-R8-ES-2008-N00170; 1112-0000-81420-F2]

Sonoma County Office of Education Habitat Conservation Plan, Dutton Avenue School, City of Santa Rosa, Sonoma County, CA

AGENCY: Fish and Wildlife Service, Interior.

ACTION: Notice of availability: proposed low-effect habitat conservation plan; request for comment.

SUMMARY: The Sonoma County Office of Education (SCOE or applicant) has applied to the Fish and Wildlife Service (Service) for a 5-year incidental take permit for two species pursuant to section 10(a)(1)(B) of the Endangered Species Act of 1973, as amended (Act). The application addresses the potential for “take” of one listed animals and one listed plant. The applicant would implement a conservation program to minimize and mitigate the project activities, as described in the SCOE Low-Effect Habitat Conservation Plan (plan). We request comments on the applicant's application and plan, and the preliminary determination that the plan qualifies as a “low-effect” habitat conservation plan, eligible for a Categorical Exclusion under the National Environmental Policy Act of 1969, as amended (NEPA). We discuss our basis for this determination in our Environmental Action Statement (EAS), which is also available for public review.

DATES: We must receive written comments on or before August 4, 2008.

ADDRESSES: Please address written comments to Mike Thomas, Conservation Planning Branch, Fish and Wildlife Service, Sacramento Fish and Wildlife Office, 2800 Cottage Way, W-2605, Sacramento, CA 95825. Alternatively, you may send comments by facsimile to (916) 414-6713.

FOR FURTHER INFORMATION CONTACT: Mike Thomas, or Eric Tattersall, Branch Chief, Conservation Planning Branch, at the address shown above or at 916-414-6600 (telephone).

SUPPLEMENTARY INFORMATION

Availability of Documents

Copies of the permit application, plan, and EAS can be obtained from the individuals named above (see FOR FURTHER INFORMATION CONTACT). Copies of these documents are available for public inspection, by appointment, during regular business hours, at the Sacramento Fish and Wildlife Office (see ADDRESSES).

Public Availability of Comments

Before including your address, phone number, e-mail address, or other personal identifying information in your comment, you should be aware that your entire comment—including your personal identifying information—may be made publicly available at any time. While you can ask us in your comment to withhold your personal identifying information from public review, we cannot guarantee that we will be able to do so.

Background Information

Section 9 of the Act (16 U.S.C. 1531 et seq.) and its implementing Federal regulations prohibit the “take” of fish or wildlife species listed as endangered or threatened. “Take” is defined under the Act to include the following activities: To harass, harm, pursue, hunt, shoot, wound, kill, trap, capture or collect listed animal species, or to attempt to engage in such conduct. However, under section 10(a)(1)(B) of the Act, we may issue permits to authorize incidental take of listed species. “Incidental take” is defined by the Act as take that is incidental to, and not the purpose of, carrying out an otherwise lawful activity. Regulations governing incidental take permits for endangered and threatened species, respectively, are in the Code of Federal Regulations at 50 CFR 17.22 and 50 CFR 17.32.

Although take of listed plant species is not prohibited under the Act, and therefore cannot be authorized under an incidental take permit, plant species may be included on a permit in recognition of the conservation benefits provided to them under a habitat conservation plan. All species included on the incidental take permit would receive assurances under the Services' “No Surprises” regulations (50 CFR 17.22(b)(5) and 17.32(b)(5).

The applicant seeks an incident take permit for covered activities within 4.42 acres of grassland and associated wetlands owned by SCOE located in Sonoma County, California. SCOE is requesting permits for take of one federally listed animal species, listed as endangered: Sonoma County Distinct Population Segment of the California tiger salamander (Ambystoma californiense) (tiger salamander). The federally listed plant species is the endangered Sebastopol meadowfoam (Limnathese vinculans) (meadowfoam). The proposed covered species do not include any wildlife species not currently listed under the Act. Collectively, both of these species are referred to as “covered species” in the plan.

SCOE owns and manages lands in Sonoma County, California. Lands owned by SCOE include the proposed community school on 4.42 acres at 3255 and 3261 Dutton Avenue in the City of Santa Rosa.

Covered activities include the following: Grading and ground leveling, vegetation removal and planting, soil compaction, building construction and use of heavy equipment (including, but not limited to bulldozers, cement trucks, water trucks, and backhoes), erosion control structures (such as silt fencing and barriers), dust control (such as watering surface soils), construction of sidewalks and roads, trenching, and installation of utilities and irrigation systems.

The applicant proposes to avoid, minimize, and mitigate the effects to the covered species associated with the covered activities by fully implementing the plan. Minimization measures will include, but are not limited to, an employee education program; biological monitoring during construction and earthmoving; a storm water, erosion, and dust control plan; daily pre-activity surveys for listed species; tiger salamander salvage in the winter prior to construction, to exclude tiger salamanders from the site and work areas; and temporary removal of covered species if they are observed within work areas. General minimization measures will include: limiting staging and work areas to the project site only, regular removal of all foods and food-related trash, prohibiting pets from the project site during construction, a 15 mile-per-hour speed limit for vehicles, maintenance of all equipment to avoid fluid leaks, and storage of all hazardous materials in sealable containers at least 200 feet from aquatic habitats.

Alternatives

The Service's proposed action consists of approving the applicant's plan and issuance of an incidental take permit for the applicant's Covered Activities. As required by the Act, the applicant's plan considers alternatives to the take under the proposed action. The plan considers the environmental consequences of two alternatives to the proposed action, the No Action alternative and the Reduced Take alternative. Under the No Action Alternative, no permit would be issued, the proposed school project would not be built, and no take would occur.

Under the Reduced Take alternative, buildings and facilities would be clustered closer together to reduce the amount of tiger salamander and meadowfoam habitat that would be lost by construction of the school. Direct affects due to habitat loss and take of individuals would be reduced; however, indirect affects to tiger salamander migration corridors are unlikely to be minimized by clustering because existing pathways for migration are limited on all sides except to the north (there are two vacant grassland parcels to the north, which are in turn bordered by development) and any additional construction, regardless of location on the site would likely further restrict movement of tiger salamanders. In addition, grassland and wetland habitat avoided on-site would be unlikely to support a viable population of tiger salamanders or meadowfoam due to the small size of the site, lack of hydrologic connection to other water bodies, and blockage of movement corridors.

Under the proposed action alternative, the Service would issue an incidental take permit for the applicant's proposed project, which includes the activities described above. The proposed action alternative would result in permanent loss of 4.13 acres of upland tiger salamander habitat and 0.07 acres of seasonal wetland habitat. To mitigate for these affects, the applicant proposes to purchase 8.3 tiger salamander credits and 0.105 meadowfoam credits at a Service approved bank.

National Environmental Policy Act

As described in our EAS, we have made the preliminary determination that approval of the proposed plan and issuance of the permit would qualify as a categorical exclusion under NEPA (42 U.S.C. 4321 et seq.), as provided by Federal regulations (40 CFR 1500, 5(k), 1507.3(b)(2), 1508.4) and the Department of the Interior Manual (516 DM 2 and 516 DM 8). Our EAS found that the proposed plan qualifies as a “low-effect” habitat conservation plan, as defined by the Service's Habitat Conservation Planning Handbook (November 1996). Determination of low-effect habitat conservation plans is based on the following three criteria: (1) Implementation of the proposed plan would result in minor or negligible effects on federally listed, proposed, and candidate species and their habitats; (2) implementation of the proposed plan would result in minor or negligible effects on other environmental values or resources; and (3) impacts of the plan, considered together with the impacts of other past, present, and reasonably foreseeable similarly situated projects, would not result, over time, in cumulative effects to environmental values or resources that would be considered significant. Based upon the preliminary determinations in the EAS, we do not intend to prepare further NEPA documentation. We will consider public comments when making the final determination on whether to prepare an additional NEPA document on the proposed action.

Public Review

We provide this notice pursuant to section 10(c) of the Act and the NEPA public-involvement regulations (40 CFR 1500.1(b), 1500.2(d), and 1506.6). We will evaluate the permit application, including the plan, and comments submitted thereon to determine whether the application meets the requirements of section 10(a) of the Act. If the requirements are met, we will issue a permit to the applicant for the incidental take of the Sonoma Distinct Population Segment of the California tiger salamander and the Sebastopol meadowfoam from the implementation of the covered activities described in the plan, or from mitigation conducted as part of this plan. We will make the final permit decision no sooner than 30 days after the date of this notice.

Dated: June 27, 2008.
Cay C. Goude,
Acting Field Supervisor, Sacramento Fish and Wildlife Office, Sacramento, California.

[FR Doc. E8-15110 Filed 7-2-08; 8:45 am]

BILLING CODE 4310-55-P